INTERNATIONAL TRADE COMMISSION

[Investigation Nos. 701-TA-468 and 731-TA-1166-1167 (Final)]

Certain Magnesia Carbon Bricks From China and Mexico

Determinations

On the basis of the record ¹ developed in the subject investigations, the United States International Trade Commission (Commission) determines, pursuant to section 705(b) and 735(b) of the Tariff Act of 1930 (19 U.S.C. 1671d(b)) and 19 U.S.C. 1673d(b)) (the Act), that an industry in the United States is materially injured by reason of imports from China and Mexico of certain magnesia carbon bricks, provided for in subheadings 6902.10.10, 6902.10.50, 6815.91.99, and 6815.99.00 of the Harmonized Tariff Schedule of the United States, that have been found by the Department of Commerce (Commerce) to be subsidized by the Government of China and to be sold in the United States at less than fair value (LTFV).2 3

¹ The record is defined in sec. 207.2(f) of the Commission's Rules of Practice and Procedure (19 CFR 207.2(f)).

² The Commission also finds that imports subject to Commerce's affirmative critical circumstances determination are not likely to undermine seriously the remedial effect of the antidumping duty order on China.

³ Chairman Deanna Tanner Okun, and Commissioners Daniel R. Pearson and Shara L. Aranoff determine that an industry in the United States is threatened with material injury by reason of imports of certain magnesia carbon bricks from China and determine that an industry in the United States is not materially injured or threatened with material injury, or that the establishment of an industry in the United States is materially retarded, by reason of imports from Mexico of certain magnesia carbon bricks.

Background

The Commission instituted these investigations effective July 29, 2009, following receipt of a petition filed with the Commission and Commerce by Resco Products Inc., Pittsburgh, PA. The final phase of the investigations was scheduled by the Commission following notification of preliminary determinations by Commerce that imports of certain magnesia carbon bricks from China were being subsidized within the meaning of section 703(b) of the Act (19 U.S.C. 1671b(b)) and that imports of certain magnesia carbon bricks from China and Mexico were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of April 23, 2010 (75 FR 21346). The hearing was held in Washington, DC, on July 27, 2010, and all persons who requested the opportunity were permitted to appear in person or by counsel.

The Commission transmitted its determinations in these investigations to the Secretary of Commerce on September 8, 2010. The views of the Commission are contained in USITC Publication 4182 (September 2010), entitled Certain Magnesia Carbon Bricks from China and Mexico: Investigation Nos. 701-TA-468 and 731-TA-1166-1167 (Final).

By order of the Commission.
Issued: September 10, 2010.
Marilyn R. Abbott,
Secretary to the Commission.

[FR Doc. 2010-23062 Filed 9-15-10; 8:45 am]

BILLING CODE 7020-02-P